DEPARTMENT OF LABOR

Occupational Safety and Health Administration

[Docket No. ICR-1218-0131 (2001)]

Standard Entitled “Occupational Exposure to Hazardous Chemicals in Laboratories”; Extension of the Office of Management and Budget's (OMB) Approval of the Information-Collection (Paperwork) Requirements

AGENCY: Occupational Safety and Health Administration (OSHA), Labor.

ACTION: Request for comments.

SUMMARY: OSHA solicits comments concerning its proposal to increase the total burden-hour estimate for, and to extend OMB approval of, the collection-of-information requirements specified by the standard entitled “Occupational Exposure to Hazardous Chemicals in Laboratories” (29 CFR 1910.1450).¹

¹ Based on its assessment of the paperwork requirements contained in this standard, the Agency estimates that the total burden hours increased compared to its previous burden-hour estimate. Under this notice, OSHA is not proposing to revise these paperwork requirements in any substantive manner, only to increase the burden hours imposed by the existing paperwork requirements.

DATES: Submit written comments on or before December 3, 2001.

ADDRESSES: Submit written comments to the Docket Office, Docket No. ICR-1218-0131 (2001), OSHA, U.S. Department of Labor, Room N-2625, 200 Constitution Avenue, NW, Washington DC 20210; telephone (202) 693-2350. Commenters may transmit written comments of 10 pages or less by facsimile to (202) 693-1648.

FOR FURTHER INFORMATION CONTACT: Todd Owen, Directorate of Policy, OSHA, U.S. Department of Labor, Room N-3641, 200 Constitution Avenue, NW., Washington, DC 20210; telephone (202) 693-2444. A copy of the Agency's Information-Collection Request (ICR) supporting the need for the information collections specified by the standard entitled “Occupational Exposure to Hazardous Chemicals in Laboratories” is available for inspection and copying in the Docket Office, or by requesting a copy from Todd Owen at (202) 693-2444. For electronic copies of the ICR contact OSHA on the Internet at http://www.osha.gov/comp-links.html, and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and cost) is minimal, collection instruments are understandable, and OSHA's estimate of the information-collection burden is correct.

The standard entitled “Occupational Exposure to Hazardous Chemicals in Laboratories” (§ 1910.1450; the “Standard”) applies to laboratories that use hazardous chemicals in accordance with the Standard's definitions for “laboratory use of hazardous chemicals” ² and “laboratory scale.” ³ The Standard requires these laboratories to maintain employee exposures at or below the permissible exposure limits specified for the hazardous chemicals in 29 CFR part 1910, subpart Z. They do so by developing a written Chemical Hygiene Plan (CHP) that describes: Standard operating procedures for using hazardous chemicals; hazard-control techniques; equipment-reliability measures; employee information-and-training programs; conditions under which the employer must approve operations, procedures, and activities before implementation; and medical consultations and examinations. The CHP also designates personnel responsible for implementing the CHP, and specifies the procedures used to provide additional protection to employees exposed to particularly hazardous chemicals.

² “Laboratory use of hazardous chemicals” means handling or use of hazardous chemicals in a manner such that: (i) Chemical manipulations are on a “laboratory scale”; (ii) multiple chemical procedures or chemicals are used; (iii) the procedures involved are not part of a production process nor in any way simulate a production process; and (iv) protective laboratory practices and equipment are available and in common use to minimize the potential for employee exposure to hazardous chemicals. (See § 1910.1450(b), “Definitions.”)

³ “Laboratory scale” means work with substances in which the containers used for reactions, transfers, and other handling of substances are designed to be easily and safely manipulated by one person. Laboratory scale excludes those workplaces whose function is to produce commercial quantities of materials. (See § 1910.1450(b), “Definitions.”)

Other information-collection requirements of the Standard include: Documenting exposure-monitoring results; notifying employees in writing of these results; presenting specified information and training to employees; establishing a medical-surveillance program for overexposed employees; providing required information to the physician; obtaining the physician's written opinion; using proper respiratory equipment; and establishing, maintaining, transferring, and disclosing exposure-monitoring and medical records. These collection-of-information requirements, including the CHP, control employee overexposure to hazardous laboratory chemicals, thereby preventing serious illnesses and death among employees exposed to such chemicals.

II. Special Issues for Comment

OSHA has a particular interest in comments on the following issues:

• Whether the proposed information-collection requirements are necessary for the proper performance of the Agency's functions, including whether the information is useful;

• The accuracy of OSHA's estimate of the burden (time and cost) of the information-collection requirements, including the validity of the methodology and assumptions used;

• The quality, utility, and clarity of the information collected; and

• Ways to minimize the burden on employers who must comply; for example, by using automated or other technological information-collection and -transmission techniques.

III. Proposed Actions

OSHA proposes to increase the existing burden-hour estimate, and to extend the Office of Management and Budget's (OMB) approval, of the collection-of-information requirements specified by the Standard. In this regard, the Agency is requesting to increase the current burden-hour estimate from 107,842 hours to 269,273 hours, a total increase of 161,431 hours. This increase largely occurred because OSHA increased the number of laboratories and employees covered by the Standard. The Agency will summarize the comments submitted in response to this notice, and will include this summary in its request to OMB to extend the approval of these information-collection requirements.

Type of Review: Extension of currently approved information-collection requirements.

Title: Occupational Exposure to Hazardous Chemicals in Laboratories (29 CFR 1910.1450).

OMB Number: 1218-0131.

Affected Public: Business or other for-profit; not-for-profit institutions; Federal government; State, local, or tribal governments.

Number of Respondents: 41,900.

Frequency of Response: Annually; monthly; occasionally.

Average Time per Response: Ranges from five minutes (.08 hour) for a variety of requirements (e.g., for an office clerk to develop and post exposure-monitoring results) to eight (8) hours for an employer to develop a Chemical Hygiene Plan.

Estimated Total Burden Hours: 269,273.

Estimated Cost (Operation and Maintenance): $18,235,000.

IV. Authority and Signature

John L. Henshaw, Assistant Secretary of Labor for Occupational Safety and Health, directed the preparation of this notice. The authority for this notice is the Paperwork Reduction Act of 1995 (44 U.S.C. 3506) and Secretary of Labor's Order No. 3-2000 (65 FR 50017).

Signed at Washington, DC on September 26, 2001.
John L. Henshaw,
Assistant Secretary of Labor.

[FR Doc. 01-24559 Filed 10-1-01; 8:45 am]

BILLING CODE 4510-26-M